DEPARTMENT OF THE TREASURY

Internal Revenue Service

Proposed Collection; Comment Request for Forms 8288, 8288-A and 8288-C

AGENCY: Internal Revenue Service (IRS), Treasury.

ACTION: Notice and request for comments.

SUMMARY: The Internal Revenue Service (IRS), as part of its continuing effort to reduce paperwork and respondent burden, invites the general public and other Federal agencies to take this opportunity to comment on information collections, as required by the Paperwork Reduction Act of 1995. The IRS is soliciting comments concerning U.S. Withholding Tax Return for Certain Dispositions by Foreign Persons and Statement of Withholding on Certain Dispositions by Foreign Persons.

DATES: Written comments should be received on or before November 7, 2022 to be assured of consideration.

ADDRESSES: Direct all written comments to Andres Garcia, Internal Revenue Service, Room 6526, 1111 Constitution Avenue NW, Washington, DC 20224, or by email to pra.comments@irs.gov. Include “OMB Number 1545-0902-U.S. Withholding Tax Return for Certain Dispositions by Foreign Persons and Statement of Withholding on Certain Dispositions by Foreign Persons” in the subject line of the message.

FOR FURTHER INFORMATION CONTACT: Requests for additional information or copies of this collection should be directed to Martha R. Brinson, at (202)317-5753, or at Internal Revenue Service, Room 6526, 1111 Constitution Avenue NW, Washington, DC 20224, or through the internet at Martha.R.Brinson@irs.gov.

SUPPLEMENTARY INFORMATION:

Title: U.S. Withholding Tax Return for Certain Dispositions by Foreign Persons and Statement of Withholding on Certain Dispositions by Foreign Persons.

OMB Number: 1545-0902.

Form Numbers: 8288, 8288-A and 8288-C.

Abstract: Internal Revenue Code section 1445 requires transferees to withhold tax on the amount realized from sales or other dispositions by foreign persons. Form 8288 is used to report and transmit the amount withheld to the IRS. Form 8288-A is used by the IRS to validate the withholding, and a copy is returned to the transferor for his or her use in filing a tax return. Form 8288-C is used as evidence of the amount of your section 1.446(f)(1) liability that you satisfied.

Current Actions: The following changes have been made to the forms.

Changes to Form 8288:

(1) The form title has been changed to “U.S. Withholding Tax Return for Certain Dispositions by Foreign Persons”.

(2) The “entity” information (Withholding Agent Information) was separated into Parts I and II to its own sections, to avoid processing and repetition issues.

(3) New Line 4 (Withholding Agent Information) was added to the entity section.

(4) We added 10(b) to allow the large trust to identify that the withholding being reported is a result of the large trust election previously made.

(5) New Parts II, IV, and V were added for reporting witholding under section 1446(f)(1) and 1446(f)(4), due to the final regulation in TD 9226, which has an effective date of 1/1/23, per Notice 2021-51.

Changes to Form 8288-A:

(1) The form title has been changed to “Statement of Withholding on Certain Dispositions by Foreign Persons”.

(2) New box 5 was added to (identify the withholding under the specific section).

(3) A new checkbox was added to box 6 for “Partnerships”.

The burden estimates below do not include estimates for business or individual filers. These estimates are for all other filers only as business estimates are reported under 1545-0123 and individual estimates are reported under 1545-0074.

Type of Review: Revisions of a currently approved collection.

Affected Public: Business or other for-profit organizations and individuals or households.

Form 8288:

Estimated Number of Respondents: 80,000.

Estimated Time per Respondent: 17 hr., 24 min.

Estimated Total Annual Burden Hours: 1,399,200.

Form 8288-A:

Estimated Number of Respondents: 87,500.

Estimated Time per Respondent: 3 hr., 59 min.

Estimated Total Annual Burden Hours: 343,875.

Form 8288-C:

Estimated Number of Respondents: 70,000.

Estimated Time per Respondent: 25 min.

Estimated Total Annual Burden Hours: 17,500.

The following paragraph applies to all of the collections of information covered by this notice:

An agency may not conduct or sponsor, and a person is not required to respond to, a collection of information unless the collection of information displays a valid OMB control number.

Books or records relating to a collection of information must be retained as long as their contents may become material in the administration of any internal revenue law. Generally, tax returns and tax return information are confidential, as required by 26 U.S.C. 6103.

Request for Comments: Comments submitted in response to this notice will be summarized and/or included in the request for OMB approval. Comments will be of public record.

Comments are invited on: (a) whether the collection of information is necessary for the proper performance of the functions of the agency, including whether the information has practical utility; (b) the accuracy of the agency's estimate of the burden of the collection of information; (c) ways to enhance the quality, utility, and clarity of the information to be collected; (d) ways to minimize the burden of the collection of information on or other forms of information technology; and (e) estimates of capital or start-up costs and costs of operation, maintenance, and purchase of services to provide information.

Approved: August 30, 2022.
Martha R. Brinson,
Tax Analyst.

[FR Doc. 2022-19128 Filed 9-2-22; 8:45 am]

BILLING CODE 4830-01-P